DEPARTMENT OF JUSTICE

Notice of Lodging of Proposed Consent Decree Under the Comprehensive Environmental Response, Compensation, and Liability Act

On February 13, 2024, the Department of Justice lodged a proposed Consent Decree with the United States District Court for the Southern District of Indiana in the case entitled United States v. Navistar, Inc. et al., Civil Action No. 1:24-cv-00285.

In this action the United States is seeking reimbursement of response costs and future costs incurred from Defendants Arconic Corporation, Navistar, Inc., and Ford Motor Company for alleged violations of the Comprehensive Environmental Response, Compensation, and Liability Act, 42 U.S.C. 9601 et seq. Under the proposed Consent Decree, the Defendants are required to reimburse the United States for costs incurred for response activities undertaken in response to the release and threatened release of hazardous substances at or from the A.A. Oil Site, a former waste oil collection, storage, and transfer facility located in Indianapolis, Indiana. The proposed Consent Decree also seeks a declaratory judgment that the Defendants are liable for future response costs that the United States may incur in connection with response actions that may be performed at the A.A. Oil Site.

The publication of this notice opens a period for public comment on the proposed Consent Decree. Comments should be addressed to the Assistant Attorney General, Environment and Natural Resources Division, and should refer to United States v. Navistar, Inc. et al., D.J. Ref. No. 90-11-3-12580. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

Any comments submitted in writing may be filed by the United States in whole or in part on the public court docket without notice to the commenter.

During the public comment period, the proposed Consent Decree may be examined and downloaded at this Justice Department website: http://www.justice.gov/enrd/consent-decrees. If you require assistance accessing the proposed Consent Decree, you may request assistance by email or by mail to the addresses provided above for submitting comments.

Patricia McKenna,
Deputy Section Chief, Environmental Enforcement Section, Environment and Natural Resources Division.

[FR Doc. 2024-03564 Filed 2-21-24; 8:45 am]

BILLING CODE 4410-15-P